DEPARTMENT OF STATE

[Public Notice 11738]

Notice of Department of State Sanctions Actions

SUMMARY: The Secretary of State has imposed sanctions on two entities, 22 individuals, and one vesse.

DATES: The Secretary of State's determination regarding the two entities and 22 individuals, and imposition of sanctions on the entities, individuals, and vessel identified in the SUPPLEMENTARY INFORMATION section were effective on March 24, 2022.

FOR FURTHER INFORMATION CONTACT: Anthony Musa, mussad@state.gov, Phone: (202) 647-1925.

SUPPLEMENTARY INFORMATION: Pursuant to Section 1 of E.O. 14024, all property and interests in property that are in the United States, that hereafter come within the United States, or that are or hereafter come within the possession or control of any United States person of the following persons are blocked and may not be transferred, paid, exported, withdrawn, or otherwise dealt in: (a) Any person determined by the Secretary of the Treasury, in consultation with the Secretary of State, and, with respect to subsection (a)(ii) of this section, in consultation with the Attorney General, or by the Secretary of State, in consultation with the Secretary of the Treasury, and, with respect to subsection (a)(ii) of this section, in consultation with the Attorney General: (i) To operate or have operated in the technology sector or the defense and related materiel sector of the Russian Federation economy, or any other sector of the Russian Federation economy as may be determined by the Secretary of the Treasury, in consultation with the Secretary of State. The Secretary of the Treasury, in consultation with the Secretary of State, determined that section 1(a)(i) of E.O. 14024 shall apply to the financial services sector of the Russian Federation economy.

Pursuant to Section 1 of E.O. 14024, all property and interests in property that are in the United States, that hereafter come within the United States, or that are or hereafter come within the possession or control of any United States person of the following persons are blocked and may not be transferred, paid, exported, withdrawn, or otherwise dealt in: (a) any person determined by the Secretary of the Treasury, in consultation with the Secretary of State, and, with respect to subsection (a)(ii) of this section, in consultation with the Attorney General, or by the Secretary of State, in consultation with the Secretary of the Treasury, and, with respect to subsection (a)(ii) of this section, in consultation with the Attorney General: (iii) To be or have been a leader, official, senior executive officer, or member of the board of directors of: (C) an entity whose property and interests in property are blocked pursuant to this order.

Pursuant to Section 1 of E.O. 14024, all property and interests in property that are in the United States, that hereafter come within the United States, or that are or hereafter come within the possession or control of any United States person of the following persons are blocked and may not be transferred, paid, exported, withdrawn, or otherwise dealt in: (a) Any person determined by the Secretary of the Treasury, in consultation with the Secretary of State, and, with respect to subsection (a)(ii) of this section, in consultation with the Attorney General, or by the Secretary of State, in consultation with the Secretary of the Treasury, and, with respect to subsection (a)(ii) of this section, in consultation with the Attorney General: (v) To be a spouse or adult child of any person whose property and interests in property are blocked pursuant to subsection (a)(ii) or (iii) of this section.

Pursuant to Section 1 of E.O. 14024, all property and interests in property that are in the United States, that hereafter come within the United States, or that are or hereafter come within the possession or control of any United States person of the following persons are blocked and may not be transferred, paid, exported, withdrawn, or otherwise dealt in: (a) Any person determined by the Secretary of the Treasury, in consultation with the Secretary of State, and, with respect to subsection (a)(ii) of this section, in consultation with the Attorney General, or by the Secretary of State, in consultation with the Secretary of the Treasury, and, with respect to subsection (a)(ii) of this section, in consultation with the Attorney General: (vii) To be owned or controlled by, or to have acted or purported to act for or on behalf of, directly or indirectly, the Government of the Russian Federation or any person whose property and interests in property are blocked pursuant to this order.

The Secretary of State has determined, pursuant to Section 1(a)(i) of E.O. 14024, that OOO Volga Group is operating or has operated in the financial services sector of the Russian Federation economy.

The Secretary of State has determined, pursuant to Section 1(a)(iii)(C) of E.O. 14024, that Gennady Nikolayevich Timchenko, Ksenia Gennadevna Frank, Dmitry Vladimirovich Gusev, Mikhail Lvovich Kuchment, Anatoly Alexandrovich Braverman, Ilya Borisovich Brodskiy, Aleksey Leonidovich Fisun, Dmitry Vladimirovich Khotimskiy, Sergey Vladimirovich Khotimskiy, Mikhail Vasilyevich Klyukin, Mikhail Olegovich Avtukhov, Albert Alexandrovich Boris, Dmitry Vladimirovich Baryshnikov, Elena Alexandrovna Cherstvova, Sergey Nikolaevich Bondarovich, Oleg Alexandrovich Mashtalyar, Alexey Valeryevich Panferov, Irina Nikolayevna Kashina, and Joel Raymond Lautier are or have been leaders, officials, senior executive officers, or members of the board of directors of entities whose property and interests in property are blocked pursuant to E.O. 14024.

The Secretary of State has determined, pursuant to Section 1(a)(v) of E.O. 14024, that Gleb Sergeevich Frank, Elena Petrovna Timchenko, and Natalya Browning are spouses or adult children of persons blocked whose property and interests in property are blocked pursuant to subsection (a)(ii) or (iii) of Section 1 of E.O. 14024.

The Secretary of State has also determined, pursuant to Section 1(a)(vii) of E.O. 14024, that OOO Transoil is owned or controlled by, or has acted or purported to act for or on behalf of, directly or indirectly, the Government of the Russian Federation or any person whose property and interests in property are blocked pursuant to E.O. 14024.

Pursuant to E.O. 14024 these entities and individuals have been added to the Specially Designated Nationals and Blocked Persons List. All property and interests in property of these entities subject to U.S. jurisdiction are blocked.

The following vessel subject to U.S. jurisdiction is blocked: Lena (IMO: 9594339) (Linked To: Gennady Nikolayevich Timchenko).

Whitney Baird,
Principal Deputy Assistant Secretary of State, Bureau of Economic and Business Affairs, Department of State.

[FR Doc. 2022-11185 Filed 5-24-22; 8:45 am]

BILLING CODE 4710-AE-P